DEPARTMENT OF THE INTERIOR

Bureau of Land Management

[LLAZ9120000 L12200000 AL0000 6100.241A0]

State of Arizona Resource Advisory Council Meeting

AGENCY: Bureau of Land Management, Interior.

ACTION: Notice of Arizona Resource Advisory Council Meeting.

SUMMARY: In accordance with the Federal Land Policy and Management Act of 1976 and the Federal Advisory Committee Act of 1972, the U.S. Department of the Interior, Bureau of Land Management (BLM), Arizona Resource Advisory Council (RAC), will meet on September 17, 2009, at the Four Points By Sheraton located at 10220 North Metro Parkway East in Phoenix from 8 a.m. until 4:30 p.m. Morning agenda items include: BLM State Director's update on statewide issues; update on BLM's Four-Tracks to Solar Energy Development in Arizona, and a presentation on the Restoration Design Energy Project; discussion and approval of the RAC Annual Work Plan modifications pertaining to the BLM Arizona strategies and priorities; update on the Gila Unit Travel Management Plan process; RAC questions on BLM District Managers' Reports; and reports by RAC working groups. A public comment period will be provided at 11:30 a.m. on September 17, 2009, for any interested publics who wish to address the Council on BLM programs and business.

Under the Federal Lands Recreation Enhancement Act, the RAC has been designated as the RRAC, and has the authority to review all BLM and Forest Service (FS) recreation fee proposals in Arizona. The afternoon meeting agenda on September 17 will include a brief review and discussion of the Recreation Enhancement Act (REA) Working Group Report, and one BLM fee proposal in Arizona. The fee proposal described below was presented at the June 25, RAC meeting. However, it was not voted on because the RAC lacked a quorum.

The BLM Kingman Field Office is proposing to increase fees for use of its recreation facilities beginning October 1, 2009. The fee sites and proposed changes are: (1) Burro Creek Individual Sites ($10 to $14), Burro Creek Group Site ($30 to $50), Wild Cow Springs Individual Sites ($5 to $8), Wild Cow Springs Group Site ($15 to $20), and Windy Point Individual Sites ($4 to $8). The purpose of the BLM fee increase is to continue maintenance and improve its campground facilities.

Following the BLM proposal, the RRAC will open the meeting to public comments on the fee proposal. After completing their RRAC business, the BLM RAC will reconvene to provide recommendations to the RAC Designated Federal Official on the fee proposal and discuss future RAC meetings and locations.

DATES: Effective Date: August 14, 2009.

FOR FURTHER INFORMATION CONTACT: Deborah Stevens, Bureau of Land Management, Arizona State Office, One North Central Avenue, Suite 800, Phoenix, Arizona 85004-4427, 602-417-9504.

Helen M. Hankins,
Arizona Associate State Director.

[FR Doc. E9-20052 Filed 8-19-09; 8:45 am]

BILLING CODE 4310-32-P